DEPARTMENT OF TRANSPORTATION

Federal Aviation Administration

Notice of Intent To Rule on Application To Impose and Use the Revenue From a Passenger Facility Charge (PFC) at Brainerd-Crow Wing County Regional Airport, Brainerd, Minnesota

AGENCY: Federal Aviation Administration (FAA), DOT.

ACTION: Notice of intent to rule on application.

SUMMARY: The FAA proposes to rule and invites public comment on the application to impose and use the revenue from a PFC at Brainerd-Crow Wing County Regional Airport under the provisions of the Aviation Safety and Capacity Expansion Act of 1990 (Title IX of the Omnibus Budget Reconciliation Act of 1990) (Pub. L. 101-508) and part 158 of the Federal Aviation Regulations (14 CFR part 158).

DATES: Comments must be received on or before January 22, 2001.

ADDRESSES: Comments on this application may be mailed or delivered in triplicate to the FAA at the following address: Federal Aviation Administration, Minneapolis Airports District Office, 6020 28th Avenue South, Room 102, Minneapolis, Minnesota 55450-2706.

In addition, one copy of any comments submitted to the FAA must be mailed or delivered to Mr. Steve Sievek, Airport Manager, Brainerd-Crow Wing County Regional Airport, at the following address: Brainerd-Crow Wing County Regional Airport Commission, 2375 Airport Road NE, Brainerd, MN 56401.

Air carriers and foreign air carriers may submit copies of written comments previously provided to the Brainerd-Crow Wing County Regional Airport Commission under section 158.23 of part 158.

FOR FURTHER INFORMATION CONTACT: Mr. Gordon Nelson, Program Manager, Federal Aviation Administration, Airports District Office, 6020 28th Avenue South, Room 102, Minneapolis, Minnesota 55450-2706, telephone (612) 713-4358. The application may be reviewed in person at this same location.

SUPPLEMENTARY INFORMATION: The FAA proposes to rule and invites public comment on the application to impose and use the revenue from a PFC at Brainerd-Crow Wing County Regional Airport under the provisions of the Aviation Safety and Capacity Expansion Act of 1990 (Title IX of the Omnibus Budget Reconciliation Act of 1990) (Pub. L. 101-508) and Part 158 of the Federal Aviation Regulations (14 CFR part 158).

On November 29, 2000, the FAA determined that the application to impose and use the revenue from a PFC submitted by the Brainerd-Crow Wing County Regional Airport Commission was substantially complete within the requirements of §§ 158.25 of part 158. The FAA will approve or disapprove the application, in whole or in part, no later than March 2, 2001.

The following is a brief overview of the application.

PFC application number: 01-03-C-00-BRD.

Level of the proposed PFC: $4.50.

Proposed charge effective date: April 1, 2001.

Proposed charge expiration date: April 1, 2006.

Total estimated PFC revenue: $488,231.00.

Brief description of proposed projects at the $4.50 level: Airport Layout Plan update; Phase II archaeological study; acquire snowblower; design and install Runway 5 Medium-Intensity Approach Lighting System (MALS); clearing/grubbing and obstruction removal; terminal road repair and reconstruction; install deer fencing; Master Plan update/benefit cost analysis; acquire ARFF replacement vehicle; Runway 5/23 friction improvements; construct Southwest Development area; acquire one-ton utility truck with snowplow; acquire end loader with ramp snowplow; and PFC application preparation.

Brief description of proposed project at the $3.00 level: Sealcoat general aviation apron.

Class or classes of air carriers which the public agency has requested not be required to collect PFCs: Air Taxi/Commercial Operators (ATCO) filing Form 1800-31. Any person may inspect the application in person at the FAA office listed above under FOR FURTHER INFORMATION CONTACT.

In addition, any person may, upon request, inspect the application, notice and other documents germane to the application in person at the Brainerd-Crow Wing County Regional Airport Commission Office.

Issued in Des Plaines, Illinois, on December 8, 2000.
Benito De Leon,
Manager, Planning/Programming Branch Airports Division, Great Lakes Region.

[FR Doc. 00-32519 Filed 12-20-00; 8:45 am]

BILLING CODE 4910-13-M